DEPARTMENT OF JUSTICE

Antitrust Division

Notice Pursuant to the National Cooperative Research and Production Act of 1993—Telemanagement Forum

Notice is hereby given that, on September 8, 2005, pursuant to Section 6(a) of the National Cooperative Research and Production Act of 1993, 15 U.S.C. 4301 et seq. (“the Act”), Telemanagement Forum (“the Forum”) has filed written notifications simultaneously with the Attorney General and the Federal Trade Commission disclosing changes in its membership. The notifications were filed for the purpose of extending the Act's provisions limiting the recovery of antitrust plaintiffs to actual damages under specified circumstances. Specifically, Advance Solutions, Riyadh, Saudi Arabia; Argent Networks Limited, Auckland, New Zealand; AutoMagic KB LLC, Denver, CO; BI Telecom, Moscow, Russia; Billing Services Group Europe, Buckden, United Kingdom; Bispro Consulting, Jakarta, Indonesia; BoomBoat Inc., Toronto, Ontario, Canada; Borland Corporation, Scotts Valley, CA; boxfusion, London, United Kingdom; Capgemini Telecom & Media, Paris, France; Casabyte, Inc., Renton, WA; China Telecommunications Corporation, Beijing, People's Republic of China; China Unicom, Beijing, People's Republic of China; Cingular Wireless LLC, Atlanta, GA; Core Information Consult, Jegenstorf, Switzerland; Creation Partnerships Ltd., Fleet, United Kingdom; D&A International Limited, Bad Homburg, Germany; Duends Inc., Chicago, IL; EDS Information Services LLC, Plano, TX; eircom, Dublin, Ireland; Eyelbe Ltd., Malmesbury, United Kingdom; FORS Training Center Company Limited, Moscow, Russia; GCHQ, Cheltenham, United Kingdom; Gefion, Inc., Vienna, VA; Giza Systems, Giza, Cairo, Egypt, ht systemberatung GmbH, Dorsten, Germany, IDS Scheer Japan Co., Ltd., Tokyo, Japan; IDT Spectrum, Newark, NJ; Industria, Dublin, Ireland; Infinera, Sunnyvale, CA; Infozech Software, New Delhi, India; Ipsum Networks, Plano, TX; it vision GmbH, Hamburg, Germany; Japan Telecom Co., LTD., Tokyo, Japan; Juniper Networks, Inc., Sunnyvale, CA; Lawrence Livermore National Laboratory, Livermore, CA; LHS, Frankfurt, Germany; LTC International Inc., Richardson, TX; Martin Dawes Systems, Fearnhead, United Kingdom; Mediaan/abs bv, Heerlen, Netherlands; MetraTech Corp., Waltham, MA; Mobifon SA, Bucharest, Romania; Mobile TeleSystems OJSC, Moscow, Russia; mobilkom austria group services GmbH, Vienna, Austria; MontgomeryCarter Ltd., Finchampstead, United Kingdom; Multikabel, Alkmaar, Netherlands; National Laboratory of Software Development Environment, Beijing, People's Republic of China; NeuStar, Sterling, VA; noventum Consulting GmbH, Muenster, Germany; NTL, Hook, United Kingdom; Oblicore, Inc., Columbia, MD; Office of Communications (OFCOM), London, United Kingdom; OJSC “VimpelCom,” Moscow, Russia; ONE-ANS SpA, Monza, Italy; Osborn.TV, Dallas, TX; Petrobras, Rio de Janeiro, Brazil; PMCL MOBILINK, Islamabad, Pakiston; Polski Telefonia Cyfrowa (PTC), Warszawa, Poland; proCaptura as, Billingstad, Norway; Process Dynamics, Altrincham, United Kingdom; PT Natrindo Telepon Seluler, Tangerang, Indonesia; RateIntegration, Durham, NC; Sapient GmbH, Düsseldorf, Germany; SAS Institute Global Services Pvt. Ltd., Pune, India; Scuola Superiore Sant'Anna, Pisa, Italy; shanghai freesky inc., Shanghai, People's Republic of China; Simtel Technologies Ltd., Dublin, Ireland; SMI Telco Ltd., Waterlooville, United Kingdom; Subex Systems Limited, Bangalore, India; Swiss Federal Office of Information Technology, Systems and Telecommunication, Bern, Switzerland; Systems Mechanics, Whitstable, United Kimgdom; Tata Teleservices Ltd., Mumbai, India; Telecom Expert Group, Lisle, IL; Telekom Malaysia Berhad (Co. Registration: 128740-P), Kuala Lumpur, Malaysia; Telynx, Inc., San Francisco, CA; TierOne OSS Technologies Inc., Mississauga, Ontario, Candad; Timesten, Inc., Mountain View, CA; Traventec, Dangan, Ireland; TRIBOLD, London, United Kingdom; TTG Uluslararsi LTD, Istanbul, Turkey; Turkcell Iletisim Hiz AS., Tepebasi, Turkey; Ukrainian Mobile Communications UMC, Kiev, Ukraine; University of Johannesburg, Aucklandpark, South Africa; Vector Communications Ltd., Auckland, New Zealand; Vodacom South Africa, Midrand, South Africa; Vodafone Ireland, Dublin, Ireland; Vodafone Portugal, Lisboa, Portugal; Voltaire Consultants bv, Baarn, Netherlands; VoluBill, Cedex, France; Waterford Institute of Technology, Waterford, Ireland; and Wisdom Networks Co., Ltd., Tokyo, Japan have been added as parties to this venture.

Also, Agilance, Inc., Outremont, Quebec, Canada; Antic Seiler Rosch, Oldham, United Kingdom; Atrica, Santa Clara, CA; China, Telecom System Integration Co. Ltd., Beijing; People Republic of China; Comrise Technology, Hazlet, NJ; Concord Communications, Marlboro, MA; Connexn Technologies, Wesminster, CO; Croucher Consultants Ltd., Pease Pottage, United Kingdom; Daleen Technologies, Inc., Boca Raton, FL; Digital Fairway Corporation, Toronto, Ontario, Canada; DigitalFuel, San Matio, CA; Econet Wirless Nigeria, Victoria Island, Nigeria; eDynamic, Inc., Planta, TX; Eftia OSS Solutions, Inc., Ottawa, Ontario, Canada; Emperative, Boulder, CO; Enguenity Technologies, Montreal, Quebec, Canada; Etesian GmbH, Holzkirchen, Germany; Getronics Consulting BV, Amsterdam, Netherlands; Gigastream UMTS Technologies, Saabruecken, Germany; Granita Systems, Inc., Manchester, NH; InferData, Mountain View, CA; Integral Access, Inc., Chelmsford, MA; IXI Mobile, Inc., Ra'anana, Israel; Kabira Technolgies, Inc., San Rafael, CA; Leapstone Systems, Inc., Somerset, NJ; Level 3 Communications, Broomfield, CO; MobileTEL EAD, Safia, Bulgaria; Partner Communications Company, Ltd., Rosh- Ha'ayin, Israel; Pedestal Networks, Fremont, CA; People Soft, Inc., Pleasanton, CA; Photonex Corporation, Maynard, MA; Pride S.p.A., Milano, Italy; QT Training LTD, Macclesfield, United Kingdom; Quallaby Corporation, Lowell, MA; Redrock Communications, Bentleigh, Australia; Rocket Software, Alamedia, CA; SMG Co. LTD., Yokohama City, Japan; SunTech Sp. z o.o., Warsaw, Poland; TeleGea, Inc., Waltham, MA; Telekom Applies Business, Kuala Lumpur, Malaysia; Tyco Telecommunications, Morristown, NJ; WestGlobal, Dublin, Ireland; and ZOOM Networks Inc., Beijing, People's Republic of China have withdrawn as parties to this venture.

The following members have changed their names: 4DH Consulting has changed its name to 4DH Software Inc., Seattle, WA; ADC Telecommunications has changed its name to ADC Software Systems, Minneapolis, MN; Intec Telecom Systems has changed its name to ADC Software Systems, Minneapolis, MN; Amdocs Management Ltd. has changed its name to Amdocs, Ra'anana, Israel; Xenicom Ltd. has changed its name to Andrew Network Solutions, Bristol, United Kingdom; Andrew Network Solutions Ltd. has changed its name to Andrew Network Solutions, Bristol, United Kingdom; AutoMagic Consulting LLC has changed its name to AutoMagic KB LLC, Denver Co; Barrett AB has changed its name to Barret AB, Froson, Sweden; Capgemini has changed its name to Capgemini Telecom and Media, Paris, France; Capgemini Telecom Media Entertainment has changed its name to Capgemini Telecom and Media, Paris, France; SESI has changed its name to Celona Technologies Ltd., London, United Kingdom; Equador has changed its name to CH2M Hill, Richmond, United Kingdom; Chungwa Telecom Co., LTD has changed its name to Chungwa Telecom Laboratories Co., LTD, Taoyuan, Taiwan; OSS.CL has changed its name to Computerland, Warsaw, Poland; Defense Information Systems Agency has changed its name to DOD, Fort Monmouth, NJ; SMARTS has changed its name to EMC, Brentford, United Kingdom; Tertio Telecommunications has changed its name to Evolving Systems Ltd., London, United Kingdom; FORS Training CJSC has changed its name to FORS Training Center Company Limited, Moscow, Russia; Incatel AS has changed its name to Incatel, Sandvika, Norway; Industria Networks Ltd has changed its name to Industria, Dublin, Ireland; ICS Intelligent Communication Software has changed its name to Intelligent Communication Software Entwicklungs GmbH, Muenchen, Germany; Intelligent Communication Software has changed its name to Intelligent Communication Software Entwicklungs GmbH, Muenchen, Germany; Networking Technology Laboratory has changed its name to Networking Technology Laboratory (BUTE), Budapest, Hungary; Nokia Networks has changed its name to Nokia Oyj, Tempere, Finland; Office of Communications has changed its name to Office of Communications (OFCOM), London, United Kingdom; Cognera Ltd. Has changed its name to Olista, Natanya, Israel; Cymbal Corporation has changed its name to Patni Computer Services, Fremont, CA; Mobilink has changed its name to PMCL MOBILINK, Islamabad, Pakistan; European Technical Support Limited has changed its name to Q6 Ltd., Dorkins United Kingdom; SAS Global Services has changed its name to SAS Institute Global Services Pvt. Ltd., Pune, India; Sunrise has changed its name to sunrise, Zurich, Switzerland; Steleus Group, Inc. has changed its name to Tekelec, Limonest, France; Inet Technologies, Inc. has changed its name to Tektronix Texas, LLC, Richardson, TX; Telenor AS has changed its name to Telenor ASA, Fornebu, Norway; TICO GmGH has changed its name to TICO GmbH, Weininger, Switzerland; UMC has changed its name to Ukrainian Mobile Communications UMB, Kiev, Ukraine; Watch Mark Corp. has changed its name to Vallent Corporation, Bellevue, WA; and ECSi has changed its name to VokeTel, Thorurhill, Ontario, Canada.

No other changes have been made in either the membership or planned activity of the group research project. Membership in this group research project remains open, and the Forum intends to file additional written notification disclosing all changes in membership.

On October 21, 1988, the Forum filed its original notification pursuant to section 6(a) of the Act. The Department of Justice published a notice in the Federal Register pursuant to Section 6(b) of the Act on December 8, 1988 (53 FR 49615).

The last notification was filed with the Department on January 21, 2005. A notice was published in the Federal Register pursuant to Section 6(b) of the Act on March 25, 2005 (70 FR 15352).

Dorothy B. Fountain,
Deputy Director of Operations, Antitrust Division.

[FR Doc. 05-20673 Filed 10-14-05; 8:45 am]

BILLING CODE 4410-11-M